ENVIRONMENTAL PROTECTION AGENCY

40 CFR Part 141

[EPA-HQ-OW-2020-0530; FRL-6791-05-OW]

RIN 2040-AF89

Revisions to the Unregulated Contaminant Monitoring Rule (UCMR 5) for Public Water Systems and Announcement of Public Meetings; Technical Corrections

AGENCY: Environmental Protection Agency (EPA).

ACTION: Final rule and notice of public meetings; correction.

SUMMARY: The U.S. Environmental Protection Agency (EPA) is making minor, non-substantive changes to a final rule, “Revisions to the Unregulated Contaminant Monitoring Rule (UCMR 5) for Public Water Systems and Announcement of Public Meetings,” that appeared in the Federal Register on December 27, 2021. These corrections do not change any final action taken by EPA on December 27, 2021; rather, they simply clarify the amendatory instructions.

DATES: Effective January 26, 2022.

FOR FURTHER INFORMATION CONTACT: Brenda D. Bowden, Standards and Risk Management Division (SRMD), Office of Ground Water and Drinking Water (OGWDW) (MS 140), Environmental Protection Agency, 26 West Martin Luther King Drive, Cincinnati, Ohio 45268; telephone number: (513) 569-7961; email address: bowden.brenda@epa.gov; or Melissa Simic, SRMD, OGWDW (MS 140), Environmental Protection Agency, 26 West Martin Luther King Drive, Cincinnati, Ohio 45268; telephone number: (513) 569-7864; email address: simic.melissa@epa.gov. For general information, visit the Ground Water and Drinking Water web page at: https://www.epa.gov/ground-water-and-drinking-water.

SUPPLEMENTARY INFORMATION: Section 553(b)(B) of the Administrative Procedure Act, 5 U.S.C. 553(b)(B), provides that, when an agency for good cause finds that public notice and comment procedures are impracticable, unnecessary, or contrary to the public interest, the agency may issue a rule without providing notice and an opportunity for public comment. EPA has determined that there is good cause for making this rule final without proposal and opportunity for comment because such notice and opportunity for comment is unnecessary for the following reasons: EPA is making minor, non-substantive changes to a final rule, “Revisions to the Unregulated Contaminant Monitoring Rule (UCMR 5) for Public Water Systems,” that appeared in the Federal Register on December 27, 2021. These corrections do not change any final action taken by EPA on December 27, 2021; rather, they simply clarify the logistical instructions to the Office of the Federal Register to amend 40 CFR part 141. Thus, notice and comment is unnecessary because the public has previously had the opportunity to comment on the proposed action finalized on December 27, 2021.

Corrections

In FR Doc. 2021-27858 appearing on page 73131 in the Federal Register of Monday, December 27, 2021, the following corrections are made:

§ 141.35 [Corrected]

1. On page 73151, in the second column, in part 141, instruction 2.a, “In paragraph (a), revise the fourth sentence;” is corrected to read “In paragraph (a), revise the third sentence;”.

2. On page 73151, in the third column, in part 141, instruction 2.d, “In paragraph (d)(2), revise the first, second, and third sentences; and” is corrected to read “In paragraph (d)(2), revise the heading and the first and second sentences; and”.

§ 141.40 [Corrected]

3. On page 73155, in the first column, in part 141, instructiont 3.d, “Revise paragraphs (a)(4)(i)(A) through (C), (a)(4)(ii) introductory text, and the first sentence in paragraph (a)(4)(ii)(A);” is corrected to read “Revise paragraphs (a)(4)(i)(A) through (C), (a)(4)(ii) introductory text, and paragraph (a)(4)(ii)(A);”.

4. On page 73155, in the second column, in part 141, instruction 3.f, “In paragraph (a)(5)(ii), revise the fifth and sixth sentences;” is corrected to read “In paragraph (a)(5)(ii), revise the fourth and fifth sentences;”.

Radhika Fox,
Assistant Administrator.

[FR Doc. 2022-01383 Filed 1-24-22; 8:45 am]

BILLING CODE 6560-50-P